INTERNATIONAL TRADE COMMISSION

[Investigation No. 332-587]

Distributional Effects of Trade and Trade Policy on U.S. Workers

AGENCY: United States International Trade Commission.

ACTION: Notice of scheduling of roundtables, a symposium, and a hearing in connection with the investigation.

SUMMARY: The Commission has established a schedule and procedure, set forth below, for conducting roundtables, an academic symposium, and a hearing in connection with this investigation. The Commission will hold seven roundtable discussions between March 1 and April 1, 2022, an academic symposium on April 5-6, 2022, and a hearing on April 19, 2022. The roundtables, academic symposium, and hearing will focus on the potential distributional effects of goods and services trade and trade policy on U.S. workers by skill, wage and salary level, gender, race/ethnicity, age, and income level, especially as they affect underrepresented and underserved communities. The roundtables and hearing will afford an opportunity for interested persons to present information and views relating to the investigation, and the academic symposium will afford an opportunity for researchers and data experts to present work relevant to the investigation. The Commission instituted the investigation under section 332(g) of the Tariff Act of 1930 following receipt, on October 14, 2021, of a request from the U.S. Trade Representative.

DATES:

Commission events:

March 1: Roundtable on Race and Ethnicity I (virtual)

March 8: Impacts on Underserved Communities (in-person/virtual hybrid; from Fresno, CA)

March 10: Roundtable on Race and Ethnicity II (virtual)

March 14: Roundtable on Gender and Orientation (virtual)

March 22: Roundtable on Disability, Age, and Education (virtual)

March 30: Impacts on Underserved Communities (in-person/virtual hybrid; from Detroit, MI)

April 1: Roundtable on Local Economic Impacts on Underserved Communities (virtual)

April 5-6 Academic Symposium (virtual)

April 19: Hearing (virtual)

Filing deadlines relating to the roundtables:

February 15: Deadline for filing requests to appear at Roundtable on Race and Ethnicity I

February 22: Deadline for filing requests to appear at Roundtable on Impacts on Underserved Communities—Fresno, CA

February 24: Deadline for filing requests to appear at Roundtable on Race and Ethnicity II

February 28: Deadline for filing requests to appear at Roundtable on Gender and Orientation

March 8: Deadline for filing requests to appear at Roundtable on Disability, Age, and Education

March 16: Deadline for filing requests to appear at Roundtable on Impacts on Underserved Communities—Detroit, MI

March 18: Deadline for filing requests to appear at Roundtable on Local Economic Impacts on Underserved Communities

Filing deadlines relating to the academic symposium:

February 11: Deadline for submitting requests to appear and a copy of abstract and CV

March 1: Deadline for submitting papers

Filing deadlines relating to the hearing:

April 1: Deadline for filing requests to appear

April 5: Deadline for filing prehearing briefs and statements

April 12: Deadline for filing electronic copies of oral hearing statements

May 6: Deadline for filing posthearing briefs and statements

May 17: Deadline for filing all other written submissions

ADDRESSES: All Commission offices are in the U.S. International Trade Commission Building, 500 E Street SW, Washington, DC. Due to the COVID 19 pandemic, the Commission's building is currently closed to the public. Once the building reopens, persons with mobility impairments who will need special assistance in gaining access to the Commission should contact the Office of the Secretary at 202-205-2000.

FOR FURTHER INFORMATION CONTACT: Co-Project Leader Jennifer Powell (202-205-3450 or jennifer.powell@usitc.gov), Co-Project Leader Stephanie Fortune-Taylor (202-205-2749 or stephanie.fortune-taylor@usitc.gov) or Deputy Project Leader Sarah Scott (202-708-1397 or sarah.scott@usitc.gov) for information specific to this investigation. For information on the legal aspects of this investigation, contact William Gearhart of the Commission's Office of the General Counsel (202-205-3091 or william.gearhart@usitc.gov). The media should contact Jennifer Andberg, Office of External Relations (202-205-3404 or jennifer.andberg@usitc.gov).

The public record for this investigation may be viewed on the Commission's electronic docket (EDIS) at https://edis.usitc.gov. General information concerning the Commission may be obtained by accessing its internet address (https://www.usitc.gov). Hearing-impaired individuals are advised that information on this matter can be obtained by contacting the Commission's TDD terminal on 202-205-1810.

SUPPLEMENTARY INFORMATION: The Commission instituted this investigation on November 23, 2021, and published notice of its investigation in the Federal Register on November 30, 2021 (86 FR 67970). As requested by the USTR, the Commission will, in its report, catalogue information on the distributional effects of trade and trade policy on workers in underrepresented and underserved communities. The Commission will gather information through multiple means, including:

(1) Roundtable discussions among representatives of underrepresented and underserved communities that have been identified in the Executive Order On Advancing Racial Equity and Support for Underserved Communities Through the Federal Government (E.O. 13985, January 20, 2021), as well as think tanks, academics and researchers, unions, State and local governments, non-Federal governmental entities, civil society experts, community-based stakeholders, such as minority-owned businesses, business incubators, Historically Black Colleges and Universities (HBCUs), Hispanic Serving Institutions (HSIs), Tribal Colleges and Universities (TCUs), other minority serving institutions (MSIs), and local and national civil rights organizations; underrepresented and underserved communities as listed in the Executive Order include Black, Latino, Indigenous and Native American persons, Asian Americans and Pacific Islanders, and other persons of color; members of religious minorities; lesbian, gay, bisexual, transgender, and queer (LGBTQ+) persons; persons with disabilities; persons in specific age, skill, or income groups; persons who live in rural areas; and persons otherwise adversely affected by persistent poverty or inequality;

(2) an academic symposium focused on academic or similar research on the distributional effects of trade and trade policy on underrepresented and underserved communities, including results of existing analysis, evaluation of methodologies, the use of public and restricted data in current analysis, identifying gaps in data and/or in the economic literature, and proposed analysis that could be done with restricted data; and

(3) a hearing open to any individual wishing to present views in accordance with the investigation.

As the roundtables, symposium and hearing presentations are open to the public, persons participating should not include confidential business information (CBI) in any written submissions or presentations intended for use in the roundtables and symposium and in their oral presentations at the hearing.

Roundtables: The Commission will hold multiple roundtables for the purpose of seeking information and views from representatives of underrepresented and underserved communities on the distributional effects of trade and trade policy on U.S. workers by skill, wage and salary level, gender, race/ethnicity, age, and income level. Each roundtable will have a theme (designated as specified in the DATES section of this notice); however, any person is welcome to present views in accordance with the investigation at these events, regardless of roundtable theme.

• The virtual roundtables will be open to the public and will be held via an online videoconferencing platform, beginning at 1 p.m. Eastern Time on the dates specified in the DATES section of this notice.

• In-person roundtables will be held in Fresno, California and Detroit, Michigan beginning at 1 p.m. local time on the dates specified in the DATES section of this notice. These in-person roundtables will be conducted in a hybrid format, thus allowing in-person and virtual participation by registrants and virtual attendance by the public. In-person roundtables may transition to an entirely virtual format depending on public health developments, and updates regarding the format of these roundtables will be posted on the investigation website.

All of the roundtables will be recorded and transcribed. Those wishing to attend or participate in a roundtable should register by 5:15 p.m. EST on the day specified in the DATES section above by emailing DE@usitc.gov or calling (202) 536-9960. Attendees and participants will receive further information upon registration. In addition, details about individual roundtables will be posted at the investigation website. Interested parties should check the investigation website periodically for updates.

Symposium: The Commission will hold the public academic symposium via an online videoconferencing platform, beginning at 9:00 a.m. EST on April 5-6, 2022. Persons interested either in presenting work (published or ongoing) or serving on a panel discussion at the symposium should submit an abstract and curriculum vitae (CV) by emailing DE@usitc.gov. The abstract should be a document of approximately one page in length that includes the presenter's name, affiliation, email contact information, and job title. The abstract should also provide a summary of the presenter's original academic work(s) related to distributional effects, as described in the Background section.

Requests to present work or serve on a panel at the academic symposium should be emailed or submitted by 5:15 p.m. on February 11, 2022. Following the February 11th submission of abstracts and CVs, potential participants should submit papers and presentations by 5:15 on March 1 by emailing DE@usitc.gov.

Hearing: A public hearing in connection with this investigation will be held via an online videoconferencing platform, beginning at 9:30 a.m. Eastern Time on April 19, 2022. Public testimony at this hearing should focus on the distributional effects described above. Information about how to participate in or view the hearing will be posted on the Commission's website at (https://usitc.gov/research_and_analysis/what_we_are_working_on.htm). Once on that web page, scroll down to the entry for Investigation No. 332-587, Distributional Effects of Trade and Trade Policy on U.S. Workers, and click on the link to “Hearing Instructions.” Interested parties should check the Commission's website periodically for updates. Information about the hearing will also be posted on the investigation specific website (https://www.usitc.gov/research_and_analysis/ongoing/distributional_effects_332).

Requests to appear at the hearing should be filed with the Secretary to the Commission no later than 5:15 p.m., April 1, 2022, in accordance with the requirements in the “Written Submissions” section below. All prehearing briefs and statements should be filed not later than 5:15 p.m., April 5, 2022. To facilitate the hearing, including the preparation of an accurate written public transcript of the hearing, oral testimony to be presented at the hearing must be submitted to the Commission electronically no later than noon, April 12, 2022. All posthearing briefs and statements should be filed not later than 5:15 p.m., May 6, 2022. Posthearing briefs and statements should address matters raised at the hearing. For a description of the different types of written briefs and statements, see the “Definitions” section below.

If, as of the close of business on April 1, 2022, no witnesses are scheduled to appear at the hearing, the hearing will be canceled. Any person interested in attending the hearing as an observer or nonparticipant should contact the Office of the Secretary at 202-205-2000 after April 4, 2022, for information concerning whether the hearing will be held.

Written submissions: In lieu of or in addition to participating in the hearing, interested parties are invited to file written submissions concerning this investigation. All written submissions should be addressed to the Secretary, and should be received not later than 5:15 p.m., May 17, 2022. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Definitions of types of documents that may be filed; Requirements: In addition to requests to appear at the hearing, this notice provides for the possible filing of four types of documents: Prehearing briefs, oral hearing statements, posthearing briefs, and other written submissions.

(1) Prehearing briefs refers to written materials relevant to the investigation and submitted in advance of the hearing, and includes written views on matters that are the subject of the investigation, supporting materials, and any other written materials that you consider will help the Commission in understanding your views. You should file a prehearing brief particularly if you plan to testify at the hearing on behalf of an industry group, company, or other organization, and wish to provide detailed views or information that will support or supplement your testimony.

(2) Oral hearing statements (testimony) refers to the actual oral statement that you intend to present at the hearing. Do not include any confidential business information in that statement. If you plan to testify, you must file a copy of your oral statement by the date specified in this notice. This statement will allow Commissioners to understand your position in advance of the hearing and will also assist the court reporter in preparing an accurate transcript of the hearing (e.g., names spelled correctly).

(3) Posthearing briefs refers to submissions filed after the hearing by persons who appeared at the hearing. Such briefs: (a) Should be limited to matters that arose during the hearing, (b) should respond to any Commissioner and staff questions addressed to you at the hearing, (c) should clarify, amplify, or correct any statements you made at the hearing, and (d) may, at your option, address or rebut statements made by other participants in the hearing.

(4) Other written submissions refer to any other written submissions that interested persons wish to make, regardless of whether they appeared at the hearing, and may include new information or updates of information previously provided.

In accordance with the provisions of section 201.8 of the Commission's Rules of Practice and Procedure (19 CFR 201.8) the document must identify on its cover (1) the investigation number and title and the type of document filed (i.e., prehearing brief, oral statement of (name), posthearing brief, or written submission), (2) the name and signature of the person filing it, (3) the name of the organization that the submission is filed on behalf of, and (4) whether it contains confidential business information (CBI). If it contains CBI, it must comply with the marking and other requirements set out below in this notice relating to CBI. Submitters of written documents (other than oral hearing statements) are encouraged to include a short summary of their position or interest at the beginning of the document, and a table of contents when the document addresses multiple issues.

Confidential business information: Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the USTR, the Commission will not include any confidential business information in the report it sends to the USTR. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a way that would reveal the operations of the firm supplying the information.

Summaries of written submissions: Persons wishing to have a summary of their position included in the report should include a summary with their written submission on or before May 17, 2022, and should mark the summary as having been provided for that purpose. The summary should be clearly marked as “summary for inclusion in the report” at the top of the page. The summary may not exceed 500 words and should not include any confidential business information. The summary will be published as provided if it meets these requirements and is germane to the subject matter of the investigation. The Commission will list the name of the organization furnishing the summary and will include a link to the Commission's Electronic Document Information System (EDIS) where the written submission can be found.

By order of the Commission.
Issued: January 12, 2022.
William Bishop,
Supervisory Hearings and Information Officer.

[FR Doc. 2022-00912 Filed 1-18-22; 8:45 am]

BILLING CODE 7020-02-P